DEPARTMENT OF AGRICULTURE

Submission for OMB Review; Comment Request

November 10, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly _OIRA_Submission@ OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Food and Nutrition Service

Title: School Nutrition Dietary Assessment Study-III.

OMB Control Number: 0584-NEW.

Summary of Collection: The School Nutrition Dietary Assessment Study-III (SNDA-III) will provide data from a nationally representative sample of public schools participating in the National School Lunch Program (NSLP) to federal, state, and local policymakers with information on how the school meal programs have changed. The study will determine students' dietary intake, nutrition content and the impact of USDA meals and total intake over a twenty-four hour period and compare the finding to previously conducted studies on schools meals.

Need and Use of the Information: The Food and Nutrition Service will collect data to examine the school environment, food service operating practices, student participation and other characteristics of schools and School Food Authorities in the NSLP and School Breakfast Program.

Description of Respondents: State, Local, or Tribal Government.

Number of Respondents: 8,737.

Frequency of Responses: Report: Other (One time).

Total Burden Hours: 8,309.

Agricultural Marketing Service

Title: Quality Through Verification (QTV) Program.

OMB Control Number: 0581-NEW.

Summary of Collection: The Agricultural Marketing Act of 1946 (7 U.S.C. 1622—et seq.) authorizes the USDA to develop standards to carry out voluntary inspection and grading services, on a fee for service basis. Quality Through Verification (QTV) is a voluntary audit and verification services using science-based techniques that help maintain public confidence in the wholesomeness of minimally processed fruits and vegetables. Minimally processed fruits and vegetables are products that have been freshly cut, washed, packaged and maintained with refrigeration. The QTV is directed only toward the fresh-cut produce industry.

Need and Use of the Information: Agriculture Marketing Service will collect the data for the administration of QTV Program and perform systems audits, verification and reviews of the QTV plans. All applicants requesting service must submit the required information to AMS.

Description of Respondents: Business or other for-profit; farms.

Number of Respondents: 20.

Frequency of Responses: Recordkeeping; reporting: On occasion.

Total Burden Hours: 6,372.

Sondra Blakey,
Departmental Information Collection Clearance Officer.

[FR Doc. 04-25456 Filed 11-16-04; 8:45 am]

BILLING CODE 3410-30-P; 3410-02-P